DEPARTMENT OF ENERGY

Federal Energy Regulatory Commission

[Docket No. RM15-23-000]

Collection of Connected Entity Data from Regional Transmission Organizations and Independent System Operators; Notice of Technical Conference

By order dated November 10, 2015,¹ the Commission directed staff to convene a technical conference regarding the Notice of Proposed Rulemaking on the Collection of Connected Entity Data from Regional Transmission Organizations and Independent System Operators (NOPR) issued on September 17, 2015. This NOPR proposes to amend the Commission's regulations to require each regional transmission organization (RTO) and independent system operator (ISO) to electronically deliver to the Commission, on an ongoing basis, data required from its market participants that would (i) identify the market participants by means of a common alpha-numeric identifier; (ii) list their “Connected Entities,” which includes entities that have certain ownership, employment, debt, or contractual relationships to the market participants, as specified in the NOPR; and (iii) describe in brief the nature of the relationship of each Connected Entity. The Commission also postponed the due date for comments on the NOPR until 45 days after the technical conference. Therefore, comments will now be due on January 22, 2016.

¹ Collection of Connected Entity Data from Regional Transmission Organizations and Independent System Operators, 153 FERC ¶ 61,162 (2015).

Take notice that such conference will be held on December 8, 2015, at the Commission's headquarters at 888 First Street NE., Washington, DC 20426 between 10:00 am and 1:00 pm (Eastern Time) in the Commission Meeting Room. The technical conference will be led by Commission staff and may be attended by one or more Commissioners. Those who would like to submit questions related to the NOPR for staff to address during the technical conference should email their questions to CENOPR@ferc.gov no later than December 1, 2015. Additional information regarding the conference program will be provided in a subsequent supplemental notice of technical conference.

The technical conference will be webcast, but not be transcribed. The free webcast will allow persons to listen to the technical conference, but not participate. Anyone with internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100. The webcast will be available on the Calendar of Events on the Commission's Web site www.ferc.gov for three months after the conference.

The conference is open to the public. Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact Kathryn Kuhlen, 202-502-6855, Kathryn.Kuhlen@ferc.gov; Jamie Marcos, 202-502-6628, Jamie.Marcos@ferc.gov; or David Pierce, 202-502-6454, David.Pierce@ferc.gov.

Dated: November 17, 2015.
Nathaniel J. Davis, Sr.,
Deputy Secretary.

[FR Doc. 2015-29756 Filed 11-20-15; 8:45 am]

BILLING CODE 6717-01-P